DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 1 individual and 12 entities whose property and interests in property have been blocked pursuant to the Foreign Narcotics Kingpin Designation Act (“Kingpin Act”) (21 U.S.C. 1901-1908, 8 U.S.C. 1182).

DATES: The designation by the Director of OFAC of 1 individual and 12 entities identified in this notice pursuant to section 805(b) of the Kingpin Act is effective on January 26, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On January 26, 2011, the Director of OFAC designated 1 individual and 12 entities whose property and interests in property are blocked pursuant to section 805(b) of the Foreign Narcotics Kingpin Designation Act.

The list of additional designees is as follows:

1. KHARROUBI, Ali Mohamed (a.k.a. KHAROUBI, Ali; a.k.a. “KAROBY, Ali”), c/o SOLMAR, Lebanon; c/o ELLISSA HOLDING, Lebanon; c/o ELLISSA GROUP SA, Benin; c/o AGROPHEN, Benin; c/o ELLISSA SHIPPING, Benin; c/o YAMEN BENIN SARL, Benin; c/o ELLISSA PARC COTONOU, Benin; c/o ELLISSA MEGASTORE,Benin; c/o SOCIETE ELLISSA GROUP CONGO, Congo, Republic of the; c/o ELLISSA EXCHANGE COMPANY, Lebanon; DOB 8 Jul 1970; citizen Lebanon; nationality Lebanon; Passport RL0603911 (Lebanon) (INDIVIDUAL) [SDNTK]

2. ELLISSA HOLDING (a.k.a. ELLISSA SAL (HOLDING)), Atrium Building, Weygand Street, Central District, Beirut, Lebanon (ENTITY) [SDNTK]

3. SOLMAR, Atrium Building, Weygand Street, Central District, Beirut, Lebanon (ENTITY) [SDNTK]

4. ELLISSA GROUP SA (a.k.a. “ELESSA GROUP”), 01 BP 6269, Cotonou, Atlantique, Benin; C.R. No. 03-B-1620 (ENTITY) [SDNTK]

5. AGROPHEN (a.k.a. AGRO-PHEN), 01 BP 6269, Cotonou, Benin (ENTITY) [SDNTK]

6. ELLISSA SHIPPING, 01 BP 6269, Cotonou, Benin (ENTITY) [SDNTK]

7. YAMEN BENIN SARL, 01 BP 6269, Cotonou, Benin (ENTITY) [SDNTK]

8. ELLISSA PARC COTONOU, 01 BP 6269, Cotonou, Benin (ENTITY) [SDNTK]

9. ELLISSA MEGASTORE (a.k.a. ELLISSA MEGA STORE), Quartier SCOA GBETO, Carre 148, Cotonou, Benin; 01 BP 6269, Cotonou, Benin (ENTITY) [SDNTK]

10. ALMACEN JUNIOR, Carrera 13 No. 11-24, Maicao, Colombia; Matricula Mercantil No. 00002911 (Colombia) (ENTITY) [SDNTK]

11. ALMACEN JUNIOR NO. 2, Calle 10 No. 12-46, Maicao, Colombia; Matricula Mercantil No. 00008712 (Colombia) (ENTITY) [SDNTK]

12. COMERCIAL PLANETA, Carrera 12 No. 12-13, Maicao, Colombia; Matricula Mercantil No. 00072179 (Colombia) (ENTITY) [SDNTK]

13. SOCIETE ELLISSA GROUP CONGO (a.k.a. ELLISSA GROUP SA CONGO; a.k.a. ELLISSA PARC CONGO; a.k.a. ELLISSA GROUP CONGO), Avenir Lassy Zephyr, Immeuble Socotra, Pointe Noire, Congo, Republic of the; C.R. No. 07B233 (ENTITY) [SDNTK]

Dated: January 26, 2011.
Adam J. Szubin,
Director, Office of Foreign Assets Control.

[FR Doc. 2011-2179 Filed 2-1-11; 8:45 am]

BILLING CODE 4810-AL-P